DEPARTMENT OF COMMERCE

International Trade Administration

[Application No. 99-17A05]

Export Trade Certificate of Review

ACTION: Notice of application for an amended Export Trade Certificate of Review for California Almond Export Association, LLC, Application No. 99-17A05.

SUMMARY: The Secretary of Commerce, through the Office of Trade and Economic Analysis (OTEA) of the International Trade Administration, received an application for an amended Export Trade Certificate of Review (Certificate). This notice summarizes the application and seeks public comments on whether the Certificate should be issued.

FOR FURTHER INFORMATION CONTACT: Amanda Reynolds, Acting Director, OTEA, International Trade Administration, by telephone at (202) 482-5131 (this is not a toll-free number) or email at etca@trade.gov.

SUPPLEMENTARY INFORMATION: Title III of the Export Trading Company Act of 1982 (15 U.S.C. 4011-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing the proposed export conduct for which certification is sought.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

Written comments should be sent to etca@trade.gov. An original and two (2) copies should also be submitted no later than 20 days after the date of this notice to Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the amended Certificate. Comments should refer to this application as “Export Trade Certificate of Review, application number 99-17A05.”

Summary of the Application

Applicant: California Almond Export Association, LLC (CAEA), 4800 Sisk Rd., Modesto, CA 95356.

Contacts: Jared Smith, Officer, CAEA; Michael Willemse, CPA, Wahl, Willemse & Wilson, LLP.

Application No.: 99-17A05.

Date Deemed Submitted: April 23, 2025.

Proposed Amendment: CAEA seeks to amend its Certificate as follows:

1. Add the following entities as Members of the Certificate within the meaning of section 325.2(l) of the Regulations (15 CFR 325.2(l)):

• Treehouse California Almonds, LLC, Earlimart, CA

• Cal Coast Almond Processing, Inc, Crows Landing, CA

2. Remove the following company as a Member of the Certificate:

• Western Nut Company, Chico, CA

3. Change the names of the following Members of the Certificate:

• Farmer's International, Inc., Chico, CA changes to Farmers International, Inc., Chico, CA

• Nutco, LLC d.b.a. Spycher Brothers—Select Harvest, Turlock, CA changes to Nutco, LLC dba Spycher Brothers—Select Harvest, Turlock, CA

• Wonderful Pistachios & Almonds, LLC, Los Angeles, CA changes to Wonderful Pistachios & Almonds LLC, Los Angeles, CA

CAEA's proposed amendment of its Certificate would result in the following Members list:

• Almonds California Pride, Inc., Caruthers, CA

• Bear Republic Nut, Chico, CA

• Blue Diamond Growers, Sacramento, CA

• Cal Coast Almond Processing, Inc, Crows Landing, CA

• Campos Brothers, Caruthers, CA

• Chico Nut Company, Chico, CA

• Del Rio Nut Company, Livingston, CA

• Farmers International, Inc., Chico, CA

• Fisher Nut Company, Modesto, CA

• Hilltop Ranch, Inc., Ballico, CA

• Hughson Nut, Inc., Hughson, CA

• JSS Almonds, LLC, Bakersfield, CA

• Mariani Nut Company, Winters, CA

• Nutco, LLC dba Spycher Brothers—Select Harvest, Turlock, CA

• Pearl Crop, Inc., Stockton, CA

• P-R Farms, Inc., Clovis, CA

• Roche Brothers International Family Nut Co., Escalon, CA

• RPAC, LLC, Los Banos, CA

• South Valley Almond Company, LLC, Wasco, CA

• Stewart & Jasper Marketing, Inc., Newman, CA

• SunnyGem, LLC, Wasco, CA

• Treehouse California Almonds, LLC, Earlimart, CA

• VF Marketing Corporation DBA Vann Family Orchards, Williams, CA

• Wonderful Pistachios & Almonds LLC, Los Angeles, CA

Dated: May 5, 2025.
Amanda Reynolds,
Acting Director, Office of Trade and Economic Analysis, International Trade Administration, U.S. Department of Commerce.

[FR Doc. 2025-08106 Filed 5-8-25; 8:45 am]

BILLING CODE 3510-DR-P